FEDERAL COMMUNICATIONS COMMISSION

47 CFR Part 73

[DA 02-2066; MB Docket No. 02-255; RM-10524]

Radio Broadcasting Services; Cottage Grove, Depoe Bay, Garibaldi, Toledo, and Veneta, OR

AGENCY: Federal Communications Commission.

ACTION: Proposed rule.

SUMMARY: This document requests comment on a petition for rulemaking filed on behalf of Alexandra Communications, Inc. licensee of Station KDEP(FM), Depoe Bay, Oregon, Signal Communications, Inc., licensee of Station KEUG, Inc., Cottage Grove, Oregon, and Agpal Broadcasting, Inc., licensee of Station KPPT(FM), Toledo, Oregon, requesting that we substitute Channel 288A for Channel 288C3 at Depoe Bay, Oregon, reallot Channel 288A from Depoe Bay to Garibaldi, Oregon, and modify the license of Station KDEP(FM) to specify the new community. The petition also requests that we substitute Channel 283C3 for Channel 288A at Cottage Grove, Oregon, reallot Channel 288C3 to Veneta, Oregon, and modify the license of Station KEUG(FM) to specify the new community. Finally, the petition requests that we reallot Channel 264C2 from Toledo, Oregon to Depoe Bay, and modify the license of Station KPPT(FM) to specify the new community. Channel 288A can be allotted at Garibaldi at a site 11 kilometers ( 6.8 miles) south of the community at coordinates NL 45-27-50 and WL 123-56-37. Channel 288C3 can be allotted at Veneta at a site 4.8 kilometers (3.0 miles) southwest of the community at coordinates NL 44-01-56 and WL 123-24-19. Channel 264C2 can be allotted at Depoe Bay at Station KPPT(FM)'s current site 5.9 kilometers (3.7 miles) south of the community at coordinates NL 44-45-23 and WL 124-03-01.

DATES: Comments must be filed on or before October 21, 2002, and reply comments on or before November 5, 2002.

ADDRESSES: Secretary, Federal Communications Commission, Washington, DC 20554. In addition to filing comments with the FCC, interested parties should serve the petitioner, as follows: Robert Lewis Thompson, Thiemann, Aitken & Vohra, LLC, 908 King Street, Suite 300, Alexandria, VA 22314.

FOR FURTHER INFORMATION CONTACT: Victoria M. McCauley, Media Bureau, (202) 418-2180.

SUPPLEMENTARY INFORMATION: This is a synopsis of the Commission's Notice of Proposed Rule Making, MB Docket No. 02-255, adopted August 14, 2002, and released August 30, 2002. The full text of this Commission decision is available for inspection and copying during normal business hours in the FCC's Reference Information Center at Portals II, CY-A257, 445 12th Street, SW., Washington, DC. This document may also be purchased from the Commission's duplicating contractors, Qualex International, Portals II, 445 12th Street, SW., Room CY-B402, Washington, DC 20554, telephone 202-863-2893, or via e-mail qualexint@aol.com

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR § 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR Part 73 as follows:

PART 73—RADIO BROADCAST SERVICES

1. The authority citation for Part 73 continues to read as follows:

Authority: 47 U.S.C. 154, 303, 334 and 336.

§ 73.202 [Amended]

2. Section 73.202(b), the Table of FM Allotments under Oregon, is amended by removing Channel 288A and adding Channel 264C2 at Depoe Bay, by removing Channel 288A at Cottage Grove, by removing Toledo, Channel 264C2, by adding Garibaldi, Channel 288C3, and by adding Veneta, Channel 288C3.

Federal Communications Commission.
John A. Karousos,
Assistant Chief, Audio Division, Media Bureau.

[FR Doc. 02-23139 Filed 9-11-02; 8:45 am]

BILLING CODE 6712-01-P